DEPARTMENT OF TRANSPORTATION

Federal Railroad Administration

[Docket No. FRA-2020-0027-N-9]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before July 28, 2020.

ADDRESSES: Submit written comments on the ICR activities by mail to either: Ms. Qiana Swayne, Information Collection Clearance Officer, Office of Railroad Policy and Development, Federal Railroad Administration, 1200 New Jersey Avenue SE, Washington, DC 20590; or Ms. Kim Toone, Information Collection Clearance Officer, Office of Administration, Office of Information Technology, Federal Railroad Administration, 1200 New Jersey Avenue SE, Washington, DC 20590. Commenters requesting FRA to acknowledge receipt of their respective comments must include a self-addressed stamped postcard stating, “Comments on OMB Control Number 2130-0615,” and should also include the title of the ICR. Alternatively, comments may be faxed to (202) 493-6216 or (202) 493-6497, or emailed to Ms. Swayne at Qiana.Swayne@dot.gov, or Ms. Toone at Kim.Toone@dot.gov. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Grants Management Requirements for Federal Railroad Administration. Grant Awards and Cooperative Agreements.

OMB Control Number: 2130-0615.

Abstract: FRA solicits grant applications for projects including, but not limited to, preconstruction planning activities, safety improvements, congestion relief, improvement of grade crossings, and rail line relocation, as well as projects that encourage development, expansion, and upgrades to passenger and freight rail infrastructure and services. FRA funds projects that meet FRA and government-wide evaluation standards and align with the DOT Strategic Plan.

FRA administers award agreements for both construction and non-construction projects that will result in benefits or other tangible improvements in rail corridors, service, safety, and technology. These projects include completion of preliminary engineering, environmental, research and development, final design, and construction.

FRA requires systematic and uniform collection and submission of information, as approved by OMB, to ensure accountability of Federal assistance provided by FRA. Through this information collection, FRA will measure Federal award recipients' performance and results, including expenditures in support of agreed-upon activities and allowable costs outlined in an FRA Notice of Grant Award. This information collection includes OMB-required reports and documentation, as well as additional forms and submissions to compile evidence relevant to addressing FRA's important policy challenges, promoting cost-effectiveness in FRA programs, and providing effective oversight of programmatic and financial performance. FRA issues and manages awards in compliance with 2 CFR part 200: Uniform Administrative Requirements, Cost Principles, and Audit Requirements for Federal Awards. The forms for which FRA is seeking renewal of its current approval are listed below. All non-research awards are subject to the application, reporting, closeout, and other processes described in this notice.

Form(s): All FRA forms are located at FRA's public website; all SF forms are located at Grants.gov. FRA forms 30 (FRA Assurance and Certifications Regarding Lobbying; Debarment, Suspension and Other Responsibility Matters and Drug-Free Workplace Requirements), 31 (Grant Adjustment Require Form), 32 (Service Outcome Agreement Annual Reporting), 33 (Final Performance Report), 34 (Quarterly Progress Report), 35 (Application Form), 217 (Categorical Exclusion Worksheet), 229 (NIST Manufacturing Extension Partnership Supplier Scouting—FRA Item Opportunity Synopsis), 251 (Applicant Financial Capability Questionnaire), and 252 (Payment Summary Spreadsheet). SF forms 270 (Request for Advance or Reimbursement), 424 (Application for Federal Assistance), 424 A (Budget Information for Non-Construction Programs), 424B (Assurance for Non-Construction Programs), 424C (Budget Information for Construction Programs), 424D (Assurances for Construction Programs), 425 (Federal Financial Report), and LLL (Disclosure of Lobbying Activities).

Type of Request: Revision of a currently approved collection.

Affected Public: Generally includes States and local governments and railroads.

Frequency of Submission: Varied; on occasion/monthly.

Reporting Burden:

Form name | Form | Grant activity/process | Total annual responses | Average time (hours) per response | Total annual burden hours | Total annual dollar cost equivalent
Grant Application | FRA F 35 | Application | 250 | 34 | 8,500.00 | $348,415.00
Application for Federal Assistance | SF 424 | Application | 250 | 1.1 | 275.00 | 11,272.25
Budget Information for Non-Construction Programs | SF 424A | Application | 75 | 3 | 225.00 | 9,222.75
Assurances for Non-Construction Programs | SF 424B | Application | 75 | 0.25 | 18.75 | 768.56
Budget Information for Construction Programs | SF 424C | Application | 175 | 3 | 525.00 | 21,519.75
Assurances for Construction Programs | SF 424D | Application | 175 | 0.25 | 43.75 | 1,793.31
Disclosure of Lobbying Activities | SF LLL | Application | 250 | 0.17 | 42.50 | 1,742.08
Applicant Financial Capability Questionnaire | FRA F 251 | Application | 168 | 2 | 336.00 | 13,772.64
FRA Assurances and Certifications Regarding Lobbying; Debarment, Suspension and Other Responsibility Matters and Drug-Free Workplace Requirement | FRA F 30 | Application | 250 | 0.25 | 62.50 | 2,561.88
Federal Financial Report (new awardees submit each quarter) | SF 425 New Awards | Awards & Maintenance | 500 | 1.5 | 750.00 | 30,742.50
Federal Financial Report (existing awardees submit each quarter) | SF 425 Existing Grantees | Awards & Maintenance | 864 | 1.5 | 1,296.00 | 53,123.04
Request for Advance or Reimbursement | SF 270 | Awards & Maintenance | 860 | 1 | 860.00 | 35,251.40
Payment Summary Spreadsheet | SF 252 | Awards & Maintenance | 860 | 0.5 | 430.00 | 17,625.70
Quarterly Progress Report (new awardees submit each quarter) | FRA F 34 New Awards | Awards & Maintenance | 500 | 2 | 1,000.00 | 40,990.00
Quarterly Progress Report (existing awardees submit each quarter) | FRA F 34 Existing Grantees | Awards & Maintenance | 864 | 2 | 1,728.00 | 70,830.72
Grant Adjustment Request Form | FRA F 31 | Awards & Maintenance | 212 | 1 | 212.00 | 8,689.88
Service Outcome Agreement (SOA) Annual Reporting | FRA F 32 | Awards & Maintenance | 24 | 1 | 24.00 | 983.76
Certification of Compliance or Non-Compliance with Buy America Requirements for Steel, Iron, or Manufactured Products being produced by Awardee | Narrative Request | Buy America Component | 15 | 3 | 45.00 | 1,844.55
Certification of Compliance with Buy America for Rolling Stock | Narrative Request | Buy America Component | 1 | 62 | 62.00 | 2,541.38
Waivers—Requests/Applications for Waivers, excluding FRA Form 229 (narrative request) | Narrative Request | Buy America Component | 15 | 1200 | 18,000.00 | 737,820.00
NIST Manufacturing Extension Partnership Supplier Scouting—FRA—Item Opportunity Synopsis (FRA F 229) | FRA F 229 | Buy America Component | 15 | 18 | 270.00 | 11,067.30
Awardee Investigations (including FRA initiated investigations) | Narrative Request | Buy America Component | 3 | 333 | 999.00 | 40,949.01
Awardee direct reply to FRA after request to conduct investigation of bidder/offeror | Narrative Request | Buy America Component | 2 | 1 | 2.00 | 81.98
Additional Documents to FRA from Awardee/Investigated Party | Narrative Request | Buy America Component | 1 | 4 | 4.00 | 163.96
Transmission of Awardee/Bidder/Offeror Reply to Petitioner | Narrative Request | Buy America Component | 2 | 0.5 | 1.00 | 40.99
Awardee/Investigated Bidder/Offeror response to Petitioner Comment | Narrative Request | Buy America Component | 1 | 8 | 8.00 | 327.92
Written request to FRA for information bearing on substance of investigation which has been submitted by petitioner, interested parties, or awardees | Narrative Request | Buy America Component | 1 | 4 | 4.00 | 163.96
Detailed Statement to FRA Regarding Confidentiality of Previously Submitted Information to Agency | Narrative Request | Buy America Component | 1 | 8 | 8.00 | 327.92
Awardee Determination to make award before resolution of investigation one of this sections specified reasons | Narrative Request | Buy America Component | 1 | 40 | 40.00 | 1,639.60
Notification to FRA by Awardee to make award during pendency of investigation | Narrative Request | Buy America Component | 1 | 1 | 1.00 | 40.99
Request to FRA for Reconsideration of Initial Decision by Party Involved in Investigations | Narrative Request | Buy America Component | 1 | 80 | 80.00 | 3,279.20
Pre-Award Audit | Narrative Request | Buy America Component | 1 | 33 | 33.00 | 1,352.67
Final Contract between Awardee and Bidder/Offeror | Narrative Request | Buy America Component | 1 | 16 | 16.00 | 655.84
Post Award Audit | Narrative Request | Buy America Component | 1 | 256 | 256.00 | 10,493.44
Rolling Stock Domestic Content Improvement Plans | Narrative Request | Buy America Component | 1 | 120 | 120.00 | 4,918.80
Environmental Impact Statement (EIS) | Narrative Request | Awards & Maintenance | 2 | 15552 | 31,104.00 | 1,274,952.96
Environmental Assessment (EA) | Narrative Request | Awards & Maintenance | 4 | 3120 | 12,480.00 | 511,555.20
Categorical Exclusion Worksheet | FRA F 217 | Awards & Maintenance | 50 | 156 | 7,800.00 | 319,722.00
Final Performance Report | FRA F 33 | Closeout | 79 | 8 | 632.00 | 25,905.68
Total |  |  | 6,551.00 | 21,078.02 | 88,293.50 | 3,619,150.57

Total Estimated Annual Burden: 88,293.50 hours.

Total Estimated Annual Burden Hour Dollar Cost Equivalent: $3,619,150.57.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Deputy Chief Counsel.

[FR Doc. 2020-11598 Filed 5-28-20; 8:45 am]

BILLING CODE 4910-06-P